DEPARTMENT OF ENERGY

Federal Energy Regulatory Commission

Combined Notice of Filings #1

Take notice that the Commission received the following electric rate filings:

Docket Numbers: ER11-2054-001

Applicants: Ameren Illinois Company

Descrption: Ameren Illinois Company submits tariff filing per 35: Compliance Filing of Ameren Illinois Company for Rate Schedules 114, 115, 130 to be effective 5/3/2011.

Filed Date: 05/03/2011

Accession Number: 20110503-5000

Comment Date: 5 p.m. Eastern Time on Tuesday, May 24, 2011

Docket Numbers: ER11-2093-001

Applicants: Ameren Illinois Company

Descrption: Ameren Illinois Company submits tariff filing per 35: Compliance Filing for Ameren Illinois for Rate Schedules 101, 108, 137, 138 to be effective 5/4/2011.

Filed Date: 05/03/2011

Accession Number: 20110503-5123

Comment Date: 5 p.m. Eastern Time on Tuesday, May 24, 2011

Docket Numbers: ER11-2181-001

Applicants: Ameren Illinois Company

Descrption: Ameren Illinois Company submits tariff filing per 35: Compliance Filing for Ameren Illinois for Rate Schedules 134, 135, 136 to be effective 5/4/2011.

Filed Date: 05/03/2011

Accession Number: 20110503-5137

Comment Date: 5 p.m. Eastern Time on Tuesday, May 24, 2011

Docket Numbers: ER11-3504-000

Applicants: Southwest Power Pool, Inc.

Descrption: Southwest Power Pool, Inc. submits tariff filing per 35.13(a)(2)(iii) Revision to Attachment AD Amended 2011 SWPA Agreement to be effective 4/1/2011.

Filed Date: 05/03/2011

Accession Number: 20110503-5074

Comment Date: 5 p.m. Eastern Time on Tuesday, May 24, 2011

Docket Numbers: ER11-3505-000

Applicants: Public Service Company of Colorado

Description: Public Service Company of Colorado submits tariff filing per 35.13(a)(2)(iii) 2011-5-3_Att-O_SPS_BPU_Filing to be effective 5/15/2011.

Filed Date: 05/03/2011

Accession Number: 20110503-5076

Comment Date: 5 p.m. Eastern Time on Tuesday, May 24, 2011

Docket Numbers: ER11-3506-000

Applicants: PJM Interconnection, L.L.C.

Descrption: PJM Interconnection, L.L.C. submits tariff filing per 35.13(a)(2)(iii) Queue No. W1-120; Original Service Agreement No. 2857 to be effective 4/7/2011.

Filed Date: 05/03/2011

Accession Number: 20110503-5082

Comment Date: 5 p.m. Eastern Time on Tuesday, May 24, 2011

Docket Numbers: ER11-3507-000

Applicants: Western Electricity Coordinating Council

Description: Notice to FERC of RMS Termination. Report/Form of Western Electricity Coordinating Council.

Filed Date: 05/03/2011

Accession Number: 20110503-5124

Comment Date: 5 p.m. Eastern Time on Tuesday, May 24, 2011

Docket Numbers: ER11-3508-000

Applicants: American Transmission Systems, Incorporated

Descrption: American Transmission Systems, Incorporated's 2011 Transmission Formula Rate Annual Update.

Filed Date: 05/02/2011

Accession Number: 20110502-5554

Comment Date: 5 p.m. Eastern Time on Monday, May 23, 2011

Docket Numbers: ER11-3509-000

Applicants: Southwest Power Pool, Inc.

Descrption: Southwest Power Pool, Inc. submits tariff filing per 35.13(a)(2)(iii) Ministerial Filing to Reflect Language Accepted in Docket No. OA08-61-002, -003 to be effective 7/26/2010.

Filed Date: 05/03/2011

Accession Number: 20110503-5168

Comment Date: 5 p.m. Eastern Time on Tuesday, May 24, 2011

Docket Numbers: ER11-3510-000

Applicants: California Independent System Operator Corporation

Descrption: California Independent System Operator Corporation submits tariff filing per 35.13(a)(2)(iii) 2011-05-03 CAISO Filing Clarify Provisions Relating to Self-Provisions Regulalated to be effective 5/24/2011

Filed Date: 05/03/2011

Accession Number: 20110503-5198

Comment Date: 5 p.m. Eastern Time on Tuesday, May 24, 2011

Docket Numbers: ER11-3511-000

Applicants: Southwest Power Pool, Inc.

Descrption: Southwest Power Pool, Inc. submits tariff filing per 35.13(a)(2)(iii) 549R6 Board of Public Utilities, Springfield, Missouri NITSA NOA to be effective 4/4/2011.

Filed Date: 05/03/2011

Accession Number: 20110503-5202

Comment Date: 5 p.m. Eastern Time on Tuesday, May 24, 2011

Docket Numbers: ER11-3512-000

Applicants: Pacific Gas and Electric Company

Descrption: Pacific Gas and Electric Company submits tariff filing per 35.13(a)(2)(iii) CCSF Crystal Springs Removal Agreement to be effective 7/5/2011.

Filed Date: 05/03/2011

Accession Number: 20110503-5247

Comment Date: 5 p.m. Eastern Time on Tuesday, May 24, 2011

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: May 4, 2011.
Nathaniel J. Davis, Sr.,
Deputy Secretary.

[FR Doc. 2011-11372 Filed 5-9-11; 8:45 am]

BILLING CODE 6717-01-P